DEPARTMENT OF AGRICULTURE

Forest Service

Notice of New Recreation Fee Site; Federal Lands Recreation Enhancement Act, (Title VIII, Pub. L. 108-447)

AGENCY: National Forests in Mississippi, USDA Forest Service.

ACTION: Notice of Proposed Recreation Fees.

SUMMARY: The National Forests in Mississippi is proposing new fees for two motorized trails. Rattlesnake Bay ATV Trail is located on the De Soto Ranger District, De Soto National Forest within Perry County, MS. This site has a trailhead with a restroom, designated improved parking, and bulletin board with trail map. This trail is 31 miles long. Bethel Motorcycle Trail is located on the De Soto Ranger District, De Soto National Forest within Harrison County, MS. This site has a trailhead with designated improved parking, picnic tables, grills, and bulletin board with trail map. This trail is 15 miles long. The Forest Service proposes to charge $5 per operator per day for use of these trails. Funds received from these fees would be used for continued operation and maintenance of these trails and would allow additional amenities to be added in the future. The purpose of this notice is to solicit public input on this proposal. Please contact us or provide written comments (contact information below) within 6 months from the date of this publication.

DATES: These trails will be available for public use in summer, 2008. However, fees will not be initiated until after public comments have been considered and reviewed by the Recreation Resource (citizen) Advisory Committee.

FOR FURTHER INFORMATION CONTACT: Jeff Gainey, Recreation Program Manager, 601-965-1617, National Forests in Mississippi, 100 West Capitol Street, Suite 1141, Jackson, MS 39269.

SUPPLEMENTARY INFORMATION: The Federal Recreation Lands Enhancement Act (Title VII, Pub. L. 108-447) directed the Secretary of Agriculture to publish advance notice in the Federal Register whenever new recreation fee areas are established. The National Forests in Mississippi currently manages two other ATV/motorcycle trails. Comparable recreational use fees are currently charged at these sites.

Dated: March 10, 2008.
R.E. Vann III,
Acting Forest Supervisor, National Forest in Mississippi.

[FR Doc. E8-6192 Filed 3-27-08; 8:45 am]

BILLING CODE 3410-11-M